DEPARTMENT OF VETERANS AFFAIRS

[OMB Control No. 2900-NEW]

Agency Information Collection Activity Under OMB Review: The Veteran Employment Through Technology Education Courses (VET TEC) Pilot Program

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before March 27, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-NEW” in any correspondence.

FOR FURTHER INFORMATION CONTACT: Danny S. Green, Enterprise Records Service (005R1B), Department of Veterans Affairs, 811 Vermont Avenue NW, Washington, DC 20420, (202) 421-1354 or email Danny.Green2@va.gov. Please refer to “OMB Control No. 2900-NEW” in any correspondence.

SUPPLEMENTARY INFORMATION:

Authority: P.L. 115-48, section 116; 44 U.S.C. 3501-21.

Title: Veteran Employment Through Technology Education Courses (VET TEC) Online.

Application Form: (VA Form 22-0994).

OMB Control Number: 2900-NEW.

Type of Review: New collection.

Abstract: VA Form 22-0994 allows Veterans to apply for the Veteran Employment Through Technology Education Courses (VET TEC) pilot program. The form will exist solely online and will be accessible via the VA.gov website.

An agency may not conduct or sponsor, and a person is not required to respond to a collection of information unless it displays a currently valid OMB control number. The Federal Register Notice with a 60-day comment period soliciting comments on this collection of information was published at December 20, 2018, Volume 83 FR 65396, Number 2018-27503, pages 65396-65397.

Affected Public: Individuals or Households.

Estimated Annual Burden: 550.

Estimated Average Burden per Respondent: 10 minutes.

Frequency of Response: One time.

Estimated Number of Respondents: 3,000.

By direction of the Secretary.
Danny S. Green,
Department Clearance Officer, Office of Quality Performance and Risk, Department of Veterans Affairs.

[FR Doc. 2019-03160 Filed 2-22-19; 8:45 am]

BILLING CODE 8320-01-P